DEPARTMENT OF AGRICULTURE

Agricultural Marketing Service

7 CFR Part 1218

[Doc. No. FV-06-705-Notice]

Blueberry Promotion, Research, and Information Order; Results of Continuance Referendum

AGENCY: Agricultural Marketing Service, USDA.

ACTION: Notice of Continuance Referendum Results.

SUMMARY: The Agricultural Marketing Service's Continuance Referendum shows that cultivated blueberry producers and importers favor the continuation of the Blueberry Promotion, Research, and Information Order (Order). The Continuance Referendum was held from August 1, 2006, through August 22, 2006. The Department of Agriculture (Department) will continue the Order if it is favored by a majority of producers and importers voting, who also represent a majority of the volume of blueberries represented in the referendum. The results of the continuance referendum shows 86.9% (293) of producers and importers, who also represent 93.9% (100,685,843 pounds) of the volume of blueberries represented in the referendum, favor the continuance of the Order.

FOR FURTHER INFORMATION CONTACT: Deborah S. Simmons, Research and Promotion Branch, Fruit and Vegetable Programs, Agricultural Marketing Service, USDA, Stop 0244, Room 0635-S, 1400 Independence Avenue, SW., Washington, DC 20250-0244, telephone 888-720-9917 (toll free), Fax 202-205-2800, e-mail deborah.simmons@usda.gov.

SUPPLEMENTARY INFORMATION: Pursuant to the Commodity Promotion, Research, and Information Act of 1996 [Pub. L. 104-427, 7 U.S.C. 7401-7425] (Act), a referendum is to be conducted not later than seven years after assessments first begin under an order to ascertain whether continuance of the Order is favored by producers and importers of blueberries. The Order is authorized under the Act.

The initial referendum was conducted during the period of March 13 through April 14, 2000. The final results of the initial referendum were that 67.84 percent of the voters in the referendum favored implementation of the Order. Those voting in favor represented 73.15 percent of the volume represented in the referendum. Therefore, the Order became effective July 17, 2000.

Under section 1218.71 of the Order, the Department is authorized to conduct a referendum every five years or when 10 percent or more of the eligible voters petition the Secretary of Agriculture to hold a referendum to determine if persons subject to assessment favor continuance of the Order. The Department would continue the Order if continuance of the Order is approved by a majority of the producers and importers voting in the referendum who also represent a majority of the volume of blueberries produced or imported during the representative period determined by the Secretary.

A notice of a Continuance Referendum was publicized in the Federal Register on May 26, 2006, at 71 FR 30317. Blueberry producers and importers who were engaged in the production or importation of blueberries and paid assessments during the representative period between November 1, 2004, and October 31, 2005, were eligible to vote. Persons who received an exemption from assessments for the entire representative period were ineligible to vote. The referendum was conducted by mail from August 1, 2006, through August 22, 2006.

The results of the continuance referendum shows 86.9% (293) of producers and importers, who also represent 93.9% (100,685,843 pounds) of the volume of blueberries represented in the referendum, favor the continuance of the Order. This is a majority of producers and importers, who also represent a majority of the volume of blueberries represented in the referendum. Therefore, based on the Continuance Referendum results, the Order shall continue. In accordance with the provisions of the Order, blueberry producers and importers will be provided another opportunity to participate in a continuance referendum in five years.

Authority: 7 U.S.C. 7401-7425.

Dated: October 3, 2006.
Lloyd C. Day,
Administrator, Agricultural Marketing Service.

[FR Doc. E6-16636 Filed 10-6-06; 8:45 am]

BILLING CODE 3410-02-P